DEPARTMENT OF ENERGY

Federal Energy Regulatory Commission

Combined Notice of Filings #1

Take notice that the Commission received the following electric corporate filings:

Docket Numbers: EC17-26-000.

Applicants: Bethel Wind Farm LLC.

Description: Application for Authorization Under Section 203 of the Federal Power Act and Request for Waivers and Expedited Action of Bethel Wind Farm LLC.

Filed Date: 11/4/16.

Accession Number: 20161104-5175.

Comments Due: 5 p.m. ET 11/25/16.

Docket Numbers: EC17-27-000.

Applicants: Kumeyaay Wind LLC, Mendota Hills, LLC.

Description: Application for Authorization for Disposition of Jurisdictional Facilities and Request for Expedited Action of Kumeyaay Wind LLC, et al.

Filed Date: 11/4/16.

Accession Number: 20161104-5199.

Comments Due: 5 p.m. ET 11/25/16.

Take notice that the Commission received the following electric rate filings:

Docket Numbers: ER16-1649-006.

Applicants: California Independent System Operator Corporation.

Description: Compliance filing: 2016-11-04 Aliso Canyon Compliance ICE Effective Date to be effective 10/22/2016.

Filed Date: 11/4/16.

Accession Number: 20161104-5148.

Comments Due: 5 p.m. ET 11/25/16.

Docket Numbers: ER16-1901-001.

Applicants: Elevation Solar C LLC.

Description: Compliance filing: Elevation Solar C LLC MBR Tariff to be effective 6/10/2016.

Filed Date: 11/4/16.

Accession Number: 20161104-5137.

Comments Due: 5 p.m. ET 11/25/16.

Docket Numbers: ER16-2023-002.

Applicants: California Independent System Operator Corporation.

Description: Compliance filing: 2016-11-04 Flexible Ramping Product Compliance to be effective 11/1/2016.

Filed Date: 11/4/16.

Accession Number: 20161104-5153.

Comments Due: 5 p.m. ET 11/25/16.

Docket Numbers: ER16-2222-003.

Applicants: Alcoa Power Generating Inc.

Description: Compliance filing: Long Sault Division Compliance Filing to be effective 10/1/2016.

Filed Date: 11/4/16.

Accession Number: 20161104-5160.

Comments Due: 5 p.m. ET 11/25/16.

Docket Numbers: ER16-2223-003.

Applicants: Alcoa Power Generating Inc.

Description: Compliance filing: Tapoco Division Compliance Filing to be effective 10/1/2016.

Filed Date: 11/4/16.

Accession Number: 20161104-5161.

Comments Due: 5 p.m. ET 11/25/16.

Docket Numbers: ER16-2719-001.

Applicants: NextEra Energy Transmission New York, Inc.

Description: Tariff Amendment: NEET New York, Inc. Amendment to Filing to Establish Formula Rate to be effective 11/30/2016.

Filed Date: 11/4/16.

Accession Number: 20161104-5164.

Comments Due: 5 p.m. ET 11/9/16.

Docket Numbers: ER16-2725-001.

Applicants: PSEG Energy Solutions LLC.

Description: Tariff Amendment: PSEG Energy Solutions LLC—Seller Category Clarification to be effective 12/1/2016.

Filed Date: 11/4/16.

Accession Number: 20161104-5162.

Comments Due: 5 p.m. ET 11/25/16.

Docket Numbers: ER17-2-001

Applicants: Frontier Windpower, LLC.

Description: Tariff Amendment: Amendment to MBR Application and Tariff to be effective 10/21/2016.

Filed Date: 11/4/16.

Accession Number: 20161104-5147.

Comments Due: 5 p.m. ET 11/25/16.

Docket Numbers: ER17-287-000.

Applicants: Southern California Edison Company.

Description: Supplement to November 1, 2016 Southern California Edison Company tariff filing (Revised Executed Filing Letter, Exhibits A and B).

Filed Date: 11/2/16.

Accession Number: 20161102-5176.

Comments Due: 5 p.m. ET 11/23/16.

Docket Numbers: ER17-308-000.

Applicants: PacifiCorp.

Description: Tariff Cancellation: Termination of UAMPS E&P Agreement—Lehi to be effective 1/4/2017.

Filed Date: 11/4/16.

Accession Number: 20161104-5141.

Comments Due: 5 p.m. ET 11/25/16.

Docket Numbers: ER17-309-000.

Applicants: PacifiCorp.

Description: Tariff Cancellation: Termination of WAPA Spence & Thermopolis Agreements to be effective 10/14/2016.

Filed Date: 11/4/16.

Accession Number: 20161104-5145.

Comments Due: 5 p.m. ET 11/25/16.

Docket Numbers: ER17-310-000.

Applicants: Southwest Power Pool, Inc.

Description: § 205(d) Rate Filing: Attachment AE Revisions—Clarify TCR Electrically Equivalent Settlement Location to be effective 1/5/2017.

Filed Date: 11/4/16.

Accession Number: 20161104-5156.

Comments Due: 5 p.m. ET 11/25/16.

Docket Numbers: ER17-311-000.

Applicants: SR South Loving LLC.

Description: Baseline eTariff Filing: Market-Based Rate Tariff to be effective 12/5/2016.

Filed Date: 11/4/16.

Accession Number: 20161104-5157.

Comments Due: 5 p.m. ET 11/25/16.

Docket Numbers: ER17-312-000.

Applicants: PJM Interconnection, L.L.C.

Description: § 205(d) Rate Filing: Revisions to RAA Article 1—Clean-Up to Definition of Capacity Import Limit to be effective 6/27/2016.

Filed Date: 11/4/16.

Accession Number: 20161104-5163.

Comments Due: 5 p.m. ET 11/25/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 7, 2016.
Nathaniel J. Davis, Sr.,
Deputy Secretary.

[FR Doc. 2016-27289 Filed 11-10-16; 8:45 am]

BILLING CODE 6717-01-P